DEPARTMENT OF EDUCATION

[Docket No. ED-2016-IES-0109]

Request for Information on Interagency Working Group on Language and Communication's Report on Research and Development Activities

AGENCY: Institute of Education Sciences, U.S. Department of Education.

ACTION: Request for information.

SUMMARY: To assist National Science and Technology Council's (NSTC) Interagency Working Group on Language and Communication (IWGLC) in its efforts to further improve coordination and collaboration of research and development (R & D) agendas related to language and communication across the Federal Government, the Institute of Education Sciences (the Institute) requests information from interested parties through this notice.

DATES: Written submissions must be received by the Department on or before December 30, 2016.

ADDRESSES: Submit your comments through the Federal eRulemaking Portal or via postal mail or commercial delivery. We will not accept comments by fax, email, or hand delivery. To ensure that we do not receive duplicate copies, please submit your comments only one time. In addition, please include the Docket ID and the term “Language and Communication R & D Activities response” at the top of your comments.

Federal eRulemaking Portal: Go to www.regulations.gov to submit your comments electronically. Information on using Regulations.gov, including instructions for accessing agency documents, submitting comments, and viewing the docket, is available on the site under “Are you new to this site?”

Postal Mail or Commercial Delivery: If you mail your comments, address them to Rebecca McGill-Wilkinson, National Center for Education Research, Institute of Education Sciences, Attention: Language and Communication R & D Activities RFI, U.S. Department of Education, 400 Maryland Avenue SW., PCP-4127, Washington, DC 20202.

Privacy Note: The Department's policy for comments received from members of the public (including comments submitted by mail or commercial delivery) is to make these submissions available for public viewing in their entirety on the Federal eRulemaking Portal at www.regulations.gov. Therefore, commenters should be careful to include in their comments only information that they wish to make publicly available on the Internet.

Submission of Proprietary Information: Given the subject matter, some comments may include proprietary information as it relates to confidential commercial information. The Freedom of Information Act defines “confidential commercial information” as information the disclosure of which could reasonably be expected to cause substantial competitive harm. You may wish to request that we not disclose what you regard as confidential commercial information.

To assist us in making a determination on your request, we encourage you to identify any specific information in your comments that you consider confidential commercial information. Please list the information by page and paragraph numbers.

This is a request for information (RFI) only. This RFI is not a request for proposals (RFP) or a promise to issue an RFP or a notice inviting applications (NIA). This RFI does not commit the Department to contract for any supply or service whatsoever. Further, the Department is not seeking proposals and will not accept unsolicited proposals. The Department will not pay for any information or administrative costs that you may incur in responding to this RFI. If you do not respond to this RFI, you may still apply for future contracts and grants. The Department posts RFPs on the Federal Business Opportunities Web site (www.fbo.gov). The Department announces grant competitions in the Federal Register (www.gpo.gov/fdsys). It is your responsibility to monitor these sites to determine whether the Department issues an RFP or NIA after considering the information received in response to this RFI. The documents and information submitted in response to this RFI become the property of the U.S. Government and will not be returned.

FOR FURTHER INFORMATION CONTACT: Dr. Rebecca McGill-Wilkinson, U.S. Department of Education, 400 Maryland Avenue SW., PCP 4127, Washington, DC. Telephone: (202) 245-7613 or by email: Rebecca.McGill@ed.gov.

If you use a telecommunications device for the deaf (TDD) or a text telephone (TTY), call the Federal Relay Service (FRS), toll free, at 1-800-877-8339.

SUPPLEMENTARY INFORMATION:

Introduction

The Institute requests information from interested parties to help inform its work with the IWGLC as it moves forward to improve coordination and collaboration of research and development agendas related to a recently published report on language and communication across the Federal Government. The Report from the Interagency Working Group on Language & Communication (Report) is available at: www.whitehouse.gov/sites/default/files/microsites/ostp/NSTC/report_of_the_interagency_working_group_on_language_and_communication_final.pdf.

Background

The NSTC is the principal means by which the Executive Branch coordinates science and technology policy across the Federal Government. A primary objective of the NSTC is establishing clear national goals for Federal science and technology investments. The IWGLC serves as part of the internal deliberative process of the NSTC. The IWGLC includes representatives from the White House Office of Science and Technology Policy, National Science Foundation, Department of Health and Human Services, Department of Education, Department of Defense, Department of Agriculture, Department of Justice, Department of Energy, Department of Homeland Security, Department of State, Department of Commerce, National Endowment for the Humanities, National Aeronautics and Space Administration, and the Department of Transportation, and recently researched and authored the Report.

Human interaction in society depends upon language and communication. Across the Federal Government, agencies support R & D activities focused on furthering the understanding of and supporting better language and communication. To date, however, there has been no systematic accounting or description of the range of language and communication R & D that is programs and activities being supported by the Federal Government. In the Report, the IWGLC took on the challenge of creating a taxonomy of language and communication R & D activities and summarizing current and recent Federal investment in this area.

The taxonomy included in the Report identified four broad R & D topics in language and communication funded by the Federal Government, along with a number of subtopics under each broad topic. Please consult the taxonomy on pages 48-50 in the Report. The four broad topic headings include:

1. Knowledge and Processes Underlying Language and Communication.

2. Language and Communication Abilities and Skills.

3. Using Language and Communication to Influence Behavior and Share Information.

4. Language and Communication Technologies.

The taxonomy also identified four types of R & D activities that could be supported within each topic area:

1. Basic/foundational.

2. Translational.

3. Applied.

4. Implementation.

The Report provides programmatic recommendations for key areas for investment and collaboration in language and communication research to support a broad range of government functions such as environmental protection, education, national security, law enforcement, transportation, and public health.

Questions

The Institute is interested in gathering information that would be of help to the IWGLC in coordinating and making recommendations about the range of R & D programs and activities related to key topics of language and communication that are supported across the Federal agencies. Specifically, the Institute, on behalf of the IWGLC, requests information on the following:

1. Whether the taxonomy included in the Report captures all types of federally funded R & D programs and activities on language and communication. If not, please indicate which types of R & D activities should be added to the taxonomy.

2. Whether there are language and communication R & D programs and activities carried out in the non-Federal sector (e.g., commercial industry, nonprofit organizations, institutions of higher education) that do not fall into any of the taxonomy subtopics (see pgs. 48-50 of the Report). If so, please describe those activities.

3. Whether there are activities that are not included in the Report's list of recommended next steps for the Federal Government to take related to language and communication R & D programs and activities that should be considered (see pgs. 33-36). If so, please indicate what activities should be added to the Report's recommendations.

Written comments may be submitted through any of the methods discussed in the ADDRESSES section of this notice. This notice is for information purposes only. The Institute and the other member Federal agencies on the IWGLC will review and consider information provided in response to this notice as the IWGLC moves forward with its new charter to improve coordination and collaboration of research and development agendas related to language and communication across the Federal Government.

Accessible Format: Individuals with disabilities can obtain this document in an accessible format (e.g., braille, large print, audiotape, or compact disc) on request to Dr. Rebecca McGill-Wilkinson at (202) 245-7613 or Rebecca.McGill@ed.gov.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Portable Document Format (PDF). To use PDF you must have Adobe Acrobat Reader, which is available free at the site.

You may also access documents of the Department published in the Federal Register by using the article search feature at: www.federalregister.gov. Specifically, through the advanced search feature at this site, you can limit your search to documents published by the Department.

Authority: Executive Order 12881 of November 23, 1993, as amended by Executive Order 13284 of January 23, 2003. 20 U.S.C. 3402(4).

Dated: October 26, 2016.
Ruth Neild,
Deputy Director for Policy and Research, Delegated the Duties of the Director, Institute of Education Sciences.

[FR Doc. 2016-26193 Filed 10-28-16; 8:45 am]

BILLING CODE 4000-01-P